DEPARTMENT OF HEALTH AND HUMAN SERVICES

Centers for Disease Control and Prevention

[30Day-18-0931]

Agency Forms Undergoing Paperwork Reduction Act Review

In accordance with the Paperwork Reduction Act of 1995, the Centers for Disease Control and Prevention (CDC) has submitted the information collection request titled Healthy Homes and Lead Poisoning Surveillance System (HHLPSS) to the Office of Management and Budget (OMB) for review and approval. CDC previously published a “Proposed Data Collection Submitted for Public Comment and Recommendations” notice on [November 8, 2017] to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Healthy Homes and Lead Poisoning Surveillance System (HHLPSS) (OMB Control Number 0920-0931, expires 05/31/2018)—Extension—National Center for Environmental Health (NCEH), Centers for Disease Control and Prevention (CDC).

Background and Brief Description

The overarching goal of HHLPSS is to support healthy homes surveillance activities at the state and national levels. CDC seeks to request an OMB approval to extend the project for 18-months for up to 40 state and local Healthy Homes Childhood Lead Poisoning Prevention Programs (CLPPP) and the state-based Adult Blood Lead Epidemiology and Surveillance (ABLES) programs. The state programs will report information (e.g., presence of lead paint, age of housing, occupation of adults and type of housing) to the CDC under a one-year cost extension of the FY14 Funding Opportunity Announcement (FOA No. CDC-RFA-14-1408) titled “(PPHF) Childhood Lead Poisoning Prevention.” The 18-month extension will allow CDC to collect data for the third year supplement which represents the fourth and final year of awardee blood lead surveillance data under this program announcement.

Over the last three years, seven states have adopted the HHLPSS and 13 are in beta-testing. Since October 2014, CDC has funded up to 40 state and local blood lead surveillance programs. All of these programs or their subcontractors at the local level are submitting lead surveillance data for an additional year.

The objectives for this surveillance system remain two-fold. First, the HHLPSS allows CDC to systematically track how the state and local programs conduct case management and follow-up of residents with housing-related health outcomes. Second, the system allows for identification and collection of information on other housing-related risk factors. Childhood and adult lead poisoning is just one of many adverse health conditions that are related to common housing deficiencies. Multiple hazards in housing (e.g., mold, vermin, radon and the lack of safety devices) continue to adversely affect the health of residents. HHLPSS offers a coordinated, comprehensive, and systematic public health approach to eliminate multiple housing-related health hazards.

HHLPSS enables flexibility to evaluate housing where the risk for lead poisoning is high, regardless of whether children less than 6 years of age currently reside there. Thus, HHLPSS supports CDC efforts for primary prevention of childhood and adult lead poisoning. Over the past several decades there has been a remarkable reduction in environmental sources of lead, improved protection from occupational lead exposure, and an overall decreasing trend in the prevalence of elevated blood lead levels (BLLs) in U.S. adults. As a result, the U.S. national BLL geometric mean among adults was 1.2 µg/dL during 2009-2010. Nonetheless, lead exposures continue to occur at unacceptable levels. Current research continues to find that BLLs previously considered harmless can have harmful effects in adults, such as decreased renal function and increased risk for hypertension and essential tremor at BLLs <10 µg/dL.

There is no cost to respondents other than their time. The total estimated time burden hours is 640 hours. There are no changes to the requested burden hours or the data collection.

Estimated Annualized Burden Hours
Type of respondents | Form name | Number of respondents | Number of responses per respondent | Average burden per response (in hours)
State, Local, and Territorial Health Departments | Healthy Homes and Lead Poisoning Surveillance System (HHLPSS) Variables | 40 | 4 | 4

Leroy A. Richardson,
Chief, Information Collection Review Office, Office of Scientific Integrity, Office of the Associate Director for Science, Office of the Director, Centers for Disease Control and Prevention.

[FR Doc. 2018-05914 Filed 3-22-18; 8:45 am]

BILLING CODE 4163-18-P